DEPARTMENT OF COMMERCE

National Oceanic and Atmospheric Administration

50 CFR Part 648

[I.D. 032103A]

New England Fishery Management Council; Public Meeting

AGENCY: National Marine Fisheries Service (NMFS), National Oceanic and Atmospheric Administration (NOAA), Commerce.

ACTION: Public meeting.

SUMMARY: The New England Fishery Management Council (Council) will hold a 1-day Council meeting on April 15, 2003, to consider actions affecting New England fisheries in the U.S. exclusive economic zone (EEZ).

DATES: The meeting will be held on Tuesday, April 15, 2003. The meeting will begin at 8 a.m. on Tuesday.

ADDRESSES: The meeting will be held at the Sheraton Ferncroft, 50 Ferncroft Road, Danvers, MA 01923; telephone 978/777-2500. Requests for special accommodations should be addressed to the New England Fishery Management Council, 50 Water Street, Mill 2, Newburyport, MA 01950; telephone (978) 465-0492.

FOR FURTHER INFORMATION CONTACT: Paul J. Howard, Executive Director, New England Fishery Management Council, (978) 465-0492.

SUPPLEMENTARY INFORMATION:

Tuesday, April 15, 2003

Following introductions, the Council will reconsider and finalize Groundfish Amendment 13 to the Northeast Multispecies Fishery Management Plan reference point and rebuilding alternatives and control rules. In considering options, the Council will review rebuilding projections prepared by the Plan Development Team (PDT), and NMFS and peer review reports and add to or reduce the number of alternatives. The Council will also finalize Total Allowance Catch (TAC) management alternatives including defining and controlling directed and incidental catch; review and approval of Groundfish Committee suggestions for clarifying Amendment 13 management measures and finalize alternatives to implement the U.S. Canada Resource Sharing Agreement including the handling of TAC coverages and overages. The Council meeting will adjourn following the conclusion of any other outstanding business.

Although other non-emergency issues not contained in this agenda may come before this Council for discussion, those issues may not be the subjects of formal action during this meeting. Council action will be restricted to those issues specifically listed in this notice and any issues arising after publication of this notice that require emergency action under section 305(c) of the Magnuson-Stevens Fishery Conservation and Management Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: March 25, 2003.
Richard W. Surdi,
Acting Director, Office of Sustainable Fisheries, National Marine Fisheries Service.

[FR Doc. 03-7646 Filed 3-28-03; 8:45 am]

BILLING CODE 3510-22-S